DEPARTMENT OF ENERGY

Federal Energy Regulatory Commission

Combined Notice of Filings #2

Take notice that the Commission received the following electric rate filings:

Docket Numbers: ER15-1499-005.

Applicants: Southwest Power Pool, Inc.

Description: Compliance filing: City of Independence 2018 Stated Rate Compliance Filing to be effective 1/1/2018.

Filed Date: 10/13/17.

Accession Number: 20171013-5110.

Comments Due: 5 p.m. ET 11/3/17.

Docket Numbers: ER18-73-000.

Applicants: NorthWestern Corporation.

Description: § 205(d) Rate Filing: Request to Disclaim Jurisdiction—SA 828 Agreement with Vista LLC to be effective 10/14/2017.

Filed Date: 10/13/17.

Accession Number: 20171013-5092.

Comments Due: 5 p.m. ET 11/3/17.

Docket Numbers: ER18-74-000.

Applicants: PJM Interconnection, L.L.C.

Description: § 205(d) Rate Filing: Serv. Agreement Nos. 2nd Rev. 3349, 4792, 4793, Queue No. U2-073/Z2-013/AB2-038 to be effective 9/13/2017.

Filed Date: 10/13/17.

Accession Number: 20171013-5124.

Comments Due: 5 p.m. ET 11/3/17.

Docket Numbers: ER18-75-000.

Applicants: Midcontinent Independent System Operator, Inc.

Description: § 205(d) Rate Filing: 2017-10-13_Installed Capacity (ICAP) Deferral Process Filing to be effective 12/13/2017.

Filed Date: 10/13/17.

Accession Number: 20171013-5149.

Comments Due: 5 p.m. ET 11/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2017.
Nathaniel J. Davis, Sr.,
Deputy Secretary.

[FR Doc. 2017-22655 Filed 10-18-17; 8:45 am]

BILLING CODE 6717-01-P